DEPARTMENT OF TRANSPORTATION

Federal Aviation Administration

Agency Information Collection Activities: Requests for Comments; Clearance of Renewed Approval of Information Collection: Organization Designation Authorization

AGENCY: Federal Aviation Administration (FAA), DOT.

ACTION: Notice and request for comments.

SUMMARY: In accordance with the Paperwork Reduction Act of 1995, FAA invites public comments about our intention to request the Office of Management and Budget (OMB) approval to renew an information collection. This information collection involves certain organizations applying to perform certification functions on behalf of the FAA. These function may include approving data, issuing various kinds of aircraft and organization certificates, and other functions.

DATES: Written comments should be submitted by October 24, 2011.

FOR FURTHER INFORMATION CONTACT: Carla Scott on (202) 385-4293, or by e-mail at: Carla.Scott@faa.gov.

SUPPLEMENTARY INFORMATION: OMB Control Number: 2120-0704.

Title: Organization Designation Authorization.

Form Numbers: FAA Forms 8100-11, 8100-12, 8100-13.

Type of Review: Renewal of an information collection.

Background: Subpart D to part 183 establishes the Organization Designation Authorization. This rule allows the Federal Aviation Administration to appoint organizations as representatives of the administrator. As authorized, these organizations perform certification functions on behalf of the FAA. The application form is submitted to the appropriate Federal Aviation Administration (FAA) office by an interested organization. The applications are reviewed by the FAA to determine whether the applicant meets the qualification requirements necessary to be authorized as a representative of the Administrator. Procedures manuals are submitted and approved by the FAA as a means to ensure the organizations utilize the correct processes when performing functions on behalf of the FAA. The management of such activity is provided for in 49 U.S.C. 44702(d). Reporting and recordkeeping requirements are necessary to manage the various approvals issued by the organization. The reporting and recordkeeping requirements are necessary to document approvals issued and must be maintained in order to address future safety issues which may arise.

Respondents: Approximately 83 applicants.

Frequency: Information is collected on occasion.

Estimated Average Burden per Response: 41.7 hours.

Estimated Total Annual Burden: 5,158 hours.

ADDRESSES: Send comments to the FAA at the following address: Ms. Carla Scott, Room 336, Federal Aviation Administration, AES-300, 950 L'Enfant Plaza, SW., Washington, DC 20024.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on August 18, 2011.
Carla Scott,
FAA Information Collection Clearance Officer, IT Enterprises Business Services Division, AES-200.

[FR Doc. 2011-21662 Filed 8-23-11; 8:45 am]

BILLING CODE 4910-13-P